NATIONAL AERONAUTICS AND SPACE ADMINISTRATION

[Notice: (10 -085)]

Opportunity To Comment on Proposed and/or Continuing Information Collection

AGENCY: National Aeronautics and Space Administration (NASA).

ACTION: Notice.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 30 calendar days from the date of this publication.

ADDRESSES: All comments should be addressed to Lori Parker, National Aeronautics and Space Administration, Washington, DC 20546-0001.

FOR FURTHER INFORMATION CONTACT: Requests for additional information or copies of the information collection instrument(s) and instructions should be directed to Lori Parker, NASA PRA Officer, NASA Headquarters, 300 E Street, SW., JF000, Washington, DC 20546, (202) 358-1351, Lori.Parker@nasa.gov.

SUPPLEMENTARY INFORMATION:

I. Abstract

Information is needed to guide implementation of GLOBE (Global Learning and Observations to Benefit the Environment) based on feedback from participating teachers, students, and partners in order to help meet the Program's goal of improving student achievement in mathematics and science.

II. Method of Collection

The GLOBE Partner survey is Web-based on-line instrument. The survey gathers data on all activities related to GLOBE implementation for the year prior to administration of the survey.

III. Data

Title: GLOBE Program Evaluation.

OMB Number: 2700-0114.

Type of Review: Extension of currently approved collection.

Affected Public: State, Local, or Tribal Government; Individuals or households; and Not-for-profit institutions.

Number of Respondents: 258.

Responses per Respondent: 1.

Annual Responses: 258.

Hours per Request: 2.

Annual Burden Hours: 516.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Lori Parker,
NASA PRA Clearance Officer.

[FR Doc. 2010-18937 Filed 8-2-10; 8:45 am]

BILLING CODE P